DEPARTMENT OF DEFENSE

Department of the Air Force

Record of Decision for the Base Closure and Realignment Beddown and Flight Operations of Remotely Piloted Aircraft at Grand Forks Air Force Base (AFB), ND

ACTION: Notice of Availability (NOA) of a Record of Decision (ROD).

SUMMARY: On September 17, 2010, the United States Air Force signed the ROD for the 2005 Base Closure and Realignment (BRAC 2005) directed Beddown and Flight Operations of Remotely Piloted Aircraft at Grand Forks AFB, North Dakota. The ROD states the Air Force decision to implement the mitigated preferred alternative (Alternative C—Southern Restricted Area Creation, Ground-Based Improvements and Personnel Changes—Airspace Scenario 2).

The decision was based on matters discussed in the Final Environmental Impact Statement (EIS) for the BRAC Beddown and Flight Operations of Remotely Piloted Aircraft at Grand Forks AFB, North Dakota, inputs from the public and regulatory agencies, and other relevant factors. The Final EIS was made available to the public on July 23, 2010 through a NOA in the Federal Register (Volume 75, Number 141, Page 43161) with a wait period that ended on August 23, 2010. The ROD documents only the decision of the Air Force with respect to the proposed Air Force actions analyzed in the Final EIS. Authority: This NOA is published pursuant to the regulations (40 CFR 1506.6) implementing the provisions of the NEPA of 1969 (42 U.S.C. 4321, et seq.) and the Air Force's Environmental Impact Analysis Process (EIAP) (32 CFR 989.21(b) and 989.24(b)(7))

FOR FURTHER INFORMATION CONTACT: Mr. Doug Allbright, HQ AMC/A7PI, 507 Symington Drive, Scott AFB, IL. 62225 Phone (618) 229-0841, e-mail: earl.allbright@scott.af.mil. 20762, AnthonyM.mitchell@pentagon.af.mil.

Bao-Anh Trinh,
Air Force Federal Register Liaison Officer.

[FR Doc. 2010-24628 Filed 9-30-10; 8:45 am]

BILLING CODE 5001-10-P